DEPARTMENT OF COMMERCE

International Trade Administration

[A-583-828]

Stainless Steel Wire Rod from Taiwan: Notice of Rescission of Antidumping Duty Administrative Review

AGENCY: Import Administration, International Trade Administration, Department of Commerce.

SUMMARY: In response to a request from Carpenter Technology Corporation, Dunkirk Specialty Steel, LLC (a subsidiary of Universal Stainless & Alloy Products) and North American Stainless (the “Domestic Interested Parties”), domestic producers of stainless steel wire rod, the Department of Commerce (the “Department”) initiated an administrative review of the antidumping duty order on stainless steel wire rod from Taiwan. See Initiation of Antidumping and Countervailing Duty Administrative Reviews, 70 FR 61601 (October 25, 2005) (“Initiation Notice”). The period of review (“POR”) is September 1, 2004, through August 31, 2005. The Department is now rescinding this review because the Domestic Interested Parties have withdrawn their request.

EFFECTIVE DATE: February 21, 2006.

FOR FURTHER INFORMATION CONTACT: Malcolm A. Burke or Howard Smith at (202) 482-3584 or (202) 482-5193, respectively; AD/CVD Operations, Office 4, Import Administration, International Trade Administration, U.S. Department of Commerce, 14th Street and Constitution Avenue, NW., Washington, DC 20230.

SUPPLEMENTARY INFORMATION:

Background

On September 1, 2005, the Department published a notice of “Opportunity to Request Administrative Review” of the antidumping duty order on stainless steel wire rod from Taiwan. See Antidumping or Countervailing Duty Order, Finding, or Suspended Investigation; Opportunity to Request Administrative Review, 70 FR 52072 (September 1, 2005). On September 30, 2005, the Department received a timely request from the Domestic Interested Parties to conduct an administrative review of the antidumping duty order on stainless steel wire rod from Taiwan with respect to Walsin Lihwa Corporation and any of its affiliates for the POR. On October 25, 2005, the Department initiated an administrative review of the antidumping duty order on stainless steel wire rod from Taiwan for the POR, and published a notice of initiation in the Federal Register. See Initiation Notice. On December 13, 2005, the Domestic Interested Parties withdrew their request for an administrative review.

Rescission of Review

Pursuant to 19 CFR §351.213(d)(1), the Department will rescind an administrative review if a party that requested a review withdraws its request within 90 days of the publication date of the notice of initiation thereof. Because the Domestic Interested Parties withdrew their review request within the 90-day time limit and no other party requested a review, the Department is rescinding this review. The Department will issue appropriate instructions directly to U.S. Customs and Border Protection.

Notification to Importers

This notice serves as a reminder to importers of their responsibility, under 19 CFR §351.402(f)(2), to file a certificate regarding the reimbursement of antidumping duties prior to liquidation of the relevant entries during this review period. Failure to comply with this requirement could result in the Secretary's presumption that reimbursement of antidumping duties occurred and the subsequent assessment of doubled antidumping duties.

Notification to Interested Parties

This notice serves as a reminder to parties subject to administrative protective order (APO) of their responsibility concerning the disposition of proprietary information disclosed under APO in accordance with 19 CFR §351.305(a)(3). Timely written notification of the return or destruction of APO materials or conversion to judicial protective order is hereby requested. Failure to comply with the regulations and the terms of an APO is a sanctionable violation.

This notice is published in accordance with section 751(a) of the Tariff Act of 1930, as amended, and 19 CFR §351.213(d)(4).

Dated: February 14, 2006.
Stephen J. Claeys,
Deputy Assistant Secretary for Import Administration.

[FR Doc. E6-2419 Filed 2-17-06; 8:45 am]

BILLING CODE 3510-DS-S